DEPARTMENT OF COMMERCE

National Institute of Standards and Technology

Proposed Information Collection; Comment Request; SURF Program Student Applicant Information

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 24, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to the attention of Terrell Vanderah, NIST, 100 Bureau Drive, Stop 8520, Gaithersburg, MD 20899, tel. (301) 975 5785, or terrell.vanderah@nist.gov. In addition, written comments may be sent via email to terrell.vanderah@nist.gov.

SUPPLEMENTARY INFORMATION:

I. Abstract

This is a request to extend the expiration date of this currently approved information collection.

The purpose of this collection is to gather information needed for the SURF (Summer Undergraduate Research Fellowship) Program. The information will be provided by student applicants and will be described in the Proposal Review Process and Evaluation Criteria sections of the Federal Register Notice for the SURF Program. The information will be used by the Program Directors and technical evaluators and is needed to determine eligible students, select students for the program using the Evaluation Criteria described in the Federal Register Notice, and place selected students in appropriate research projects that match their needs, interests, and academic preparation. The information includes: Student name, host institution, email address/contact information, home address, class standing, first- and second-choice NIST laboratories they wish to apply to, academic major/minor, current overall GPA, need for housing and gender (for housing purposes only), availability dates, resume, personal statement of commitment and research interests, two letters of recommendation, academic transcripts, and ability to verify U.S. citizenship or permanent legal residency.

II. Method of Collection

The Student Application Information form will be available on the web; the collection is currently limited to paper form but can be submitted as hardcopy or scanned and submitted electronically.

III. Data

OMB Control Number: 0693-0042.

Form Number: None.

Type of Review: Regular submission.

Affected Public: Individuals or households.

Estimated Number of Respondents: 300.

Estimated Time per Response: 15 minutes.

Estimated Total Annual Burden Hours: 75.

Estimated Total Annual Respondent Cost Burden: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 18, 2012.
Gwellnar Banks,
Management Analyst, Office of the Chief Information Officer.

[FR Doc. 2012-17942 Filed 7-23-12; 8:45 am]

BILLING CODE 3510-13-P